DEPARTMENT OF HEALTH AND HUMAN SERVICES

Office of the Secretary

Agency Information Collection Activities: Proposed Collections;; Comment Request

AGENCY: Agency information collection activities:

The Department of Health and Human Services, Office of the Secretary will periodically publish summaries of proposed information collection projects and solicit public comments in compliance with the requirements of Sections 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects 1. OCR Pre-grant Automation Project— New—The Office for Civil Rights (OCR) has developed a standardized automated review format for the conduct of civil rights compliance investigations of health care providers who have requested certification to participate in the Medicare program. Health care providers requesting certification must review their policies/practices and submit material to demonstrate compliance with the civil rights requirements of Title VI of the Civil Rights Act of 1964, Section 504 of the Rehabilitation Act of 1973 and the Age Discrimination Act of 1975. Respondents: Businesses or other for-profit, State, Local or Tribal Government; Annual Number of Respondents: 3,000; Frequency of Response: one time; Average Burden per Response: 16 hours; Annual Burden: 48,000 hours.

Send comments to Cynthia Agens Bauer, OS Reports Clearance Officer, Room 503H, Humphrey Building, 200 Independence Avenue S.W., Washington DC, 20201. Written comments should be received within 60 days of this notice.

Dated: April 18, 2000.
Dennis P. Williams,
Deputy Assistant Secretary, Budget.

[FR Doc. 00-11126 Filed 5-3-00; 8:45 am]

BILLING CODE 4150-04-V